POSTAL SERVICE

Board of Governors; Sunshine Act Meeting

DATES AND TIMES: Wednesday, November 14, 2012, at 10:00 a.m.; Thursday, November 15, at 8:30 a.m. and 10:30 a.m.

PLACE: Washington, DC, at U.S. Postal Service Headquarters, 475 L'Enfant Plaza SW., in the Benjamin Franklin Room.

STATUS: Wednesday, November 14, at 10:00 a.m.—Closed; Thursday, November 15, at 8:30 a.m.—Open; and at 10:30 a.m.—Closed

MATTERS TO BE CONSIDERED:

Wednesday, November 14, at 10:00 a.m. (Closed)

1. Strategic Issues.

2. Financial Matters.

3. Pricing.

4. Personnel Matters and Compensation Issues.

5. Governors' Executive Session—Discussion of prior agenda items and Board Governance.

Thursday, November 15, at 8:30 a.m. (Open)

1. Approval of Minutes of Previous Meetings.

2. Remarks of the Chairman of the Board.

3. Remarks of the Postmaster General and CEO.

4. Committee Reports.

5. FY2012 10K and Financial Statements.

6. FY2013 IFP and Financing Resolution.

7. FY2014 Appropriations Request.

8. Quarterly Service Performance Report.

9. Approval of Annual Report and Comprehensive Statement.

10. Tentative Agenda for the December 11, 2012, meeting in Washington, DC.

11. Election of the Chairman and Vice Chairman of the Board of Governors.

Thursday, November 15, at 10:30 a.m. (Closed—if needed)

1. Continuation of Wednesday's closed session agenda.

CONTACT PERSON FOR MORE INFORMATION: Julie S. Moore, Secretary of the Board, U.S. Postal Service, 475 L'Enfant Plaza SW., Washington, DC 20260-1000. Telephone (202) 268-4800.

Julie S. Moore.
Secretary.

[FR Doc. 2012-26982 Filed 10-31-12; 4:15 pm]

BILLING CODE 7710-12-P